DEPARTMENT OF HOMELAND SECURITY

Transportation Security Administration

Reports, Forms, and Record Keeping Requirements: Agency Information Collection Activity Under OMB Review; Application for Participation in Biometric Device Performance Qualification Testing Program

AGENCY: Transportation Security Administration (TSA), DHS.

ACTION: Notice of emergency clearance request.

SUMMARY: The U.S. Department of Homeland Security, Transportation Security Administration, has submitted a request for emergency processing of a new public information collection to the Office of Management and Budget (OMB) for review and clearance under the Paperwork Reduction Act of 1995 (Pub. L. 104-13, 44 U.S.C. 35). This notice announces that the Information Collection Request (ICR) abstracted below has been forwarded to OMB for review and comment. The ICR describes the nature of the information collection and its expected burden.

DATES: Send your comments by March 18, 2005. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Katrina Wawer, Information Collection Specialist, Office of Transportation Security Policy, TSA-9, Transportation Security Administration, 601 South 12th Street, Arlington, VA 22202-4220; telephone (571) 227-1995; facsimile (571) 227-2559.

SUPPLEMENTARY INFORMATION:

Transportation Security Administration (TSA)

Title: Application for Participation in Biometric Device Performance Qualification Testing Program.

Type of Request: Emergency processing request of new collection.

OMB Control Number: Not yet assigned.

Forms(s): Biometric Product Qualification Application Form.

Affected Public: Biometric Device Manufacturers.

Abstract: Section 4011—Provision for the Use of Biometric or Other Technology, of Title IV—Transportation Security, in the Intelligence Reform and Terrorism Prevention Act of 2004 (Pub. L. 108-458, 12/17/2004, S.2845-75), directs TSA to issue guidance for use of biometric technology in airport access control systems including a list of qualified biometric device products and vendors by March 31, 2005. In compliance, TSA has developed a process that examines the fitness of the technology for application to airport access controls systems. TSA will ask biometric device manufacturers, who wish to have their devices considered for use in airport access control systems, to submit an application containing detailed information describing their devices.

TSA intends to make the forms, which provide the basis for the device manufacturer's application to this process, widely available to the interested manufacturers through “Current Opportunities” in the “Business Opportunities” link within the TSA Web site: http://www.tsa.gov/public. The online application would be made via that Web site. TSA will use the information to evaluate the products' readiness for performance testing. TSA is seeking emergency processing of this collection to comply with the statutory mandate to issue biometric guidance.

Number of Respondents: 100.

Estimated Annual Burden Hours: An estimated 800 hours annually.

TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Issued in Arlington, Virginia, on February 9, 2005.
Lisa S. Dean,
Privacy Officer.

[FR Doc. 05-2919 Filed 2-15-05; 8:45 am]

BILLING CODE 4910-62-P